DEPARTMENT OF AGRICULTURE

Forest Service

Notice of New Fee Site

Authority: Federal Lands Recreation Enhancement Act (Title VII, Pub. L. 108-447).

AGENCY: National Forests in Florida, Apalachicola National Forest, USDA Forest Service.

ACTION: Notice of New Fee Site.

SUMMARY: The Apalachicola National Forest proposes a new fee for operations of OHV vehicles (all terrain vehicles (ATVs), utility vehicles (such as a Kawasaki Mule), dual sport motorcycles, and off road motorcycles) on the motorized trail system. Three types of permits would be available: 1 to 3 days for $10; 7 days for $25; and 365 days for $75. For operators younger than 16, the 1 to 3 day permit would be available for $5 per operator. The funds may be used for: Maintaining trails, staffing trailheads, cleaning restrooms at trailheads, grading mixed use roads, replacing signs, and other activities to manage and maintain the OHV trail system. The Apalachicola National Forest has proposed a motorized trail system of approximately 55 miles for dual sport and off road motorcycles and another 55 miles for all terrain vehicles, utility vehicles, and dual sport and off road motorcycles.

DATES: The proposed fee will be initiated April 1, 2008. Comments, concerns or questions about this new fee must submitted by November 30, 2007.

ADDRESSES: Submit comments, concerns or questions about the new fee associated with the Apalachicola National Forest's ATV trails, motorcycle trails, and mixed use roads to TRAIL FEES, District Ranger, Apalachicola National Forest, 57 Taff Drive, Crawfordville, FL 32327.

FOR FURTHER INFORMATION CONTACT: Cathy Briggs, Recreation Manager, Apalachicola National Forest, 850-926-3561 x6509 or cbriggs@fs.fed.us.

SUPPLEMENTARY INFORMATION: The Federal Recreation Lands Enhancement Act (Title VIII, Pub. L. 108-447) directed the Secretary of Agriculture to publish a six-month advance notice in the Federal Register whenever new recreation fee areas are established. The Recreation Resource Advisory Committee will review considerations for new fees at least three months prior to the proposed initiation date. OHV use has been ongoing for many years on the Apalachicola National Forest.

Dated: September 5, 2007.
Harold G. Shenk,
Deputy District Ranger, Apalachicola National Forest.

[FR Doc. 07-4557 Filed 9-13-07; 8:45 am]

BILLING CODE 3410-52-M